FEDERAL COMMUNICATIONS COMMISSION

Information Collection Being Reviewed by the Federal Communications Commission

AGENCY: Federal Communications Commission.

ACTION: Notice; request for comments.

SUMMARY: As part of its continuing effort to reduce paperwork burden and as required by the Paperwork Reduction Act (PRA) of 1995 (44 U.S.C. 3501-3520), the Federal Communications Commission invites the general public and other Federal agencies to take this opportunity to comment on the following information collection(s). Comments are requested concerning: whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information burden for small business concerns with fewer than 25 employees.

The FCC may not conduct or sponsor a collection of information unless it displays a currently valid OMB control number. No person shall be subject to any penalty for failing to comply with a collection of information subject to the Paperwork Reduction Act (PRA) that does not display a valid OMB control number.

DATES: Written Paperwork Reduction Act (PRA) comments should be submitted on or before March 15, 2013. If you anticipate that you will be submitting PRA comments, but find it difficult to do so within the period of time allowed by this notice, you should advise the FCC contact listed below as soon as possible.

ADDRESSES: Submit your PRA comments to Judith B. Herman, Federal Communications Commission, via the Internet at Judith-b.herman@fcc.gov. To submit your PRA comments by email send them to: PRA@fcc.gov.

FOR FURTHER INFORMATION CONTACT: Judith B. Herman, Office of Managing Director, (202) 418-0214.

SUPPLEMENTARY INFORMATION:

OMB Control Number: 3060-0743.

Title: Implementation of the Pay Telephone Reclassification and Compensation Provisions of the Telecommunications Act of 1996, CC Docket No. 96-128.

Form Number: N/A.

Type of Review: Extension of a currently approved collection.

Respondents: Business or other for-profit entities.

Number of Respondents: 4,471 respondents; 10,071 responses.

Estimated Time per Response: .50 hours to 100 hours.

Frequency of Response: On occasion, quarterly and monthly reporting requirements, recordkeeping requirement and third party disclosure requirement.

Obligation to Respond: Required to obtain or retain benefits. Statutory authority for this information collection is contained in 47 U.S.C. section 276 of the Communications Act of 1934, as amended.

Total Annual Burden: 118,137 hours.

Total Annual Cost: N/A.

Privacy Impact Assessment: N/A.

Nature and Extent of Confidentiality: The Commission is not requesting respondents to submit confidential information to the Commission. If the Commission requests respondents to submit information which respondents believe are confidential, respondents may request confidential treatment of such information under 47 CFR 0.459 of the Commission's rules.

Needs and Uses: The Commission will submit this expiring information collection to the Office of Management and Budget (OMB) after this comment period to obtain the full, three-year clearance from them. The Commission is seeking an extension for these requirements. There is no change in the Commission's previous burden estimates.

The collection of information implements the following reporting, recordkeeping and/or third party disclosure requirements under section 276 of the Telecommunications Act of 1996. They are: (a) State showing of proof of market failure for exception to market-rate local coin call requirement; (b) state review of adequacy of provision of public interest payphone; (c) payphone providers' transmission of specific payphone coding digits; (d) LEC verification of disputed ANIS and maintaining and making available the verification data; (e) LEC timely notification of payphone disconnection; (f) LEC indication on the payphone's monthly bill that the amount due is for payphone service; (g) LEC tariff filing; (h) reclassification of LEC-owned payphones; (i) payphone provider's verification of its status to payer of compensation; (j) payphone providers' posting of local coin call rate on each payphone placard; and (k) LEC provision of list of emergency numbers to carrier-payers will know that they do not have to compensate payphone providers for those calls.

OMB Control Number: 3060-0292.

Title: Section 69.605, Reporting and Distribution of Pool Access Revenues, Part 69, Access Charges.

Form Number: N/A.

Type of Review: Extension of a currently approved collection.

Respondents: Business or other for-profit entities.

Number of Respondents: 1,250 respondents; 15,000 responses.

Estimated Time per Response: .75 hours (45 minutes).

Frequency of Response: On occasion, annual and monthly reporting requirements, recordkeeping requirement and third party disclosure requirement.

Obligation to Respond: Required to obtain or retain benefits. Statutory authority for this information collection is contained in 47 U.S.C. sections 154, 201, 202, 203, 205, 218 and 403 of the Communications Act of 1934, as amended.

Total Annual Burden: 11,250 hours.

Total Annual Cost: N/A.

Privacy Impact Assessment: N/A.

Nature and Extent of Confidentiality: There is no need for confidentiality.

Needs and Uses: The Commission will submit this expiring information collection after this comment period to obtain the full, three year clearance from the Office of Management and Budget (OMB). The Commission is requesting approval for an extension (no change in the reporting and/or third party disclosure requirements. There is no change to the Commission's previous burden estimates.

Part 69 of the Commission's rules and regulations establishes the rules for access charges for interstate or foreign access provided by telephone companies on or after January 1, 1984, Part 69 essentially consists of rules or the procedures for the computation of access charges which are not information collections as defined by OMB's rules, 5 CFR 1320. Any reporting or disclosure occurs in connection with particular tariff filings and other reporting requirements with the FCC, National Exchange Carriers Association (NECA), or state commissions or with records maintained in accordance with the Uniform System of Accounts (USOA). OMB approval of tariff filings and USOA records required by the FCC is contained under OMB Control Numbers 3060-0298, 3060-0370 and 3060-0400.

Section 69.605 requires that access revenues and cost data shall be reported by participants in association tariffs to the association for computation of monthly pool revenues distributions. The association shall submit a report on or before February 1 of each calendar year as well as the results of that process. For any revisions to the cost study results made or recommended by the association that would change the respective carrier's calculated annual common line or traffic sensitive revenue requirement by ten percent or more, the report shall include the following information: (1) Name of the carrier; (2) a detailed description of the revisions; (3) the amount of the revisions; (4) the impact of the revisions on the carrier's calculated common line and traffic sensitive revenue requirements; and (5) the carrier's total annual common line and traffic sensitive revenue requirement.

Federal Communications Commission.
Marlene H. Dortch,
Secretary.

[FR Doc. 2013-00555 Filed 1-11-13; 8:45 am]

BILLING CODE 6712-01-P